DEPARTMENT OF AGRICULTURE

Forest Service

RIN 0596-AC22

Notice of Extension of Public Comment Period for Predator Damage Management in Wilderness Areas

AGENCY: Forest Service, USDA.

ACTION: Notice of extension of public comment period.

SUMMARY: The Forest Service is extending the public comment period an additional 30 days for the notice of proposed directives published in the Federal Register of June 7, 2006 (FR Doc. E6-8839, on pages 32915-32918) concerning predator damage management in wilderness areas. Guidance to Forest officers in the management of predator damage in wilderness areas is contained in the Forest Service Manual (FSM) Title 2300, Recreation, Wilderness, and Related Resources Management and FSM 2600, Wildlife, Fish, and Sensitive Plant Habitat Management. These proposed directives would conform agency direction regarding predator damage with provisions in an interdepartmental Memorandum of Understanding (MOU) between the USDA Animal and Plant Health Inspection Service, Wildlife Services Division and the USDA Forest Service. The MOU, first entered into in 1993, was renewed in 1998, and again in 2004, with minor revisions. Comments received in response to this notice will be considered in development of the final directives for predator damage management on National Forest System lands, including wilderness.

DATES: The comment period has been extended from August 7, 2006, to September 7, 2006.

ADDRESSES: Send written comments to Forest Service, USDA, Attn: Director, Wilderness and Wild and Scenic Rivers Resources, 201 14th Street SW., Washington, DC 20250; by electronic mail to PDM@fs.fed.us; or by fax to (202) 205-1145. Comments may also be submitted by following the instructions at the Federal e-Rulemaking portal, http://www.regulations.gov. If comments are sent by electronic mail or by fax, the public is requested not to send duplicate written comments via regular mail. Please confine written comments to issues pertinent to the proposed directives; explain the reasons for any recommended changes; and, where possible, reference the specific section or paragraph being addressed. The Forest Service may not include in the administrative record for the proposed directives those comments it receives after the comment period closes (see DATES) or comments delivered to an address other than those listed in this ADDRESSES section.

All comments, including names and addresses when provided, are placed in the record and are available for public inspection and copying. The public may inspect comments received on these proposed directives in the Office of the Director, Wilderness and Wild and Scenic Rivers Staff, Forest Service, USDA, 4th Floor-Central, Sidney R. Yates Federal Building, 1400 Independence Avenue, SW., Washington, DC, between the hours of 8:30 a.m. and 4 p.m. on business days. Those wishing to inspect comments are encouraged to call ahead to (202) 205-1706 to facilitate entry into the building.

FOR FURTHER INFORMATION CONTACT: Don Fisher, Wilderness Program, (202) 205-1414, Forest Service, USDA.

SUPPLEMENTARY INFORMATION: The Forest Service published a document in the Federal Register of June 7, 2006, in FR Doc. E6-8839, on pages 32915-32918, concerning predator damage management in wilderness areas for a 60-day comment period. This notice announces a 30-day extension of the comment period. This extension is necessary to provide the public with an opportunity to review and comment on the notice of proposed directives.

Dated: August 3, 2006.
Gloria Manning,
Associate Deputy Chief, National Forest System.

[FR Doc. 06-6784 Filed 8-3-06; 5:07 pm]

BILLING CODE 3410-11-P